DEPARTMENT OF THE INTERIOR

Fish and Wildlife Service

[Docket No. FWS-HQ-IA-2024-0162; FXIA16710900000-245-FF09A30000]

Emergency Exemption: Issuance of Emergency Permit To Import Endangered Species

AGENCY: Fish and Wildlife Service, Interior.

ACTION: Notice of issuance of permit.

SUMMARY: We, the U.S. Fish and Wildlife Service, have waived the 30-day public notice period and have issued an endangered species permit for the import and release into the wild of one loggerhead sea turtle (Caretta caretta), which was rescued from the wild in Canada, for the purpose of enhancing the propagation or survival of the species. This permit is for a single import.

ADDRESSES: You may obtain materials pertaining to the permit application by submitting a Freedom of Information Act (FOIA) request to the Service's FOIA office at https://www.doi.gov/foia/foia-request-form.

FOR FURTHER INFORMATION CONTACT: Brenda Tapia, by phone at 703-358-2104 or via email at DMAFR@fws.gov. Individuals in the United States who are deaf, blind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service (Service), have issued an emergency permit to conduct certain activities with an endangered loggerhead sea turtle (Caretta caretta), in response to a permit application that we received under the authority of section 10(a)(1)(A) of the Endangered Species Act of 1973 (ESA; 16 U.S.C. 1531 et seq.)

We issued the requested permit subject to certain conditions set forth in the permit. For the application, we found that (1) the application was filed in good faith, (2) the granted permit would not operate to the disadvantage of the endangered species, and (3) the granted permit would be consistent with the purposes and policy set forth in section 2 of the ESA.

Permit Issued Under Emergency Exemption
Permit No. | Applicant | Permit issuance date
PER11660838 | SeaWorld California, San Diego, CA | October 4, 2024.

SeaWorld California, of San Diego, California, requested a permit to import a female loggerhead sea turtle from the Vancouver Aquarium in British Columbia, Canada. The turtle was rescued by the Stranding Network and taken to the Vancouver Aquarium for rehabilitation. SeaWorld has imported the turtle and, after rehabilitation, will release the turtle into the wild. The Service determined that an emergency affecting the viability of the turtle existed, and that no reasonable alternative was available to the applicant.

On October 4, 2024, the Service issued permit no. PER11660838 to SeaWorld California to import a female loggerhead sea turtle from the Vancouver Aquarium in British Columbia, Canada, and release the turtle in the wild.

Authority

We issue this notice under the authority of the Endangered Species Act of 1973, as amended (ESA; 16 U.S.C. 1531 et seq.), and its implementing regulations.

Brenda Tapia,
Supervisory Program Analyst/Data Administrator, Branch of Permits, Division of Management Authority.

[FR Doc. 2024-24965 Filed 10-25-24; 8:45 am]

BILLING CODE 4333-15-P